DEPARTMENT OF JUSTICE

National Institute of Corrections

Solicitation for a Cooperative Agreement—Administrative Support for the NIC Learning Center

AGENCY: National Institute of Corrections, Department of Justice.

ACTION: Solicitation for a Cooperative Agreement.

SUMMARY: The National Institute of Corrections (NIC) has implemented Learn.com's Learn Center learning management system (LMS) to manage the NIC Learning Center. NIC has used this LMS for the past four years to manage its Web-based training (WBT). Through this cooperative agreement, services offered through the Learning Center will be expanded to bring access to all NIC training opportunities available through this system.

DATES: Application must be received by 4 p.m. EDST on Tuesday May 20, 2008.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup.

Faxed or e-mailed applications will not be accepted. Electronic applications can be submitted via http://www.grants.gov.

FOR FURTHER INFORMATION CONTACT: A copy of this announcement and the required application forms can be downloaded from the NIC Web page at http://www.nicic.gov.

All technical or programmatic questions concerning this announcement should be directed to Steven Swisher, Correctional Program Specialist, National Institute of Corrections. Mr. Swisher can be reached by calling 800-995-6429 extension x 4416 or by e-mail at sswisher@bop.gov.

SUPPLEMENTARY INFORMATION:

Background: While NIC has effectively managed Web-based training (WBT) in the NIC Learning Center, current plans call the expansion of training and services available within the NIC Learning Center to include numerous other functions such as: management of NIC virtual instructor-led training and online registration for NIC instructor-led training. NIC does not presently have adequate in-house human resources and technical expertise to build out and administer the increased functional capabilities within the LMS. NIC requests a dedicated, off-site resource to provide needed administrative support to the NIC project manager to build out and manage new functionality within the LMS to complete project targets.

Purpose: Provide administrative support to build and manage NIC's virtual instructional led training integration, build and manage NIC online registration integration, and create and manage other advanced functionalities in the Learn Center.

Scope of Work: Specifically, this request calls for a dedicated off-site Systems Administrator to support and fulfill the day-to-day requirements of the Learn Center LMS. Within this proposal and associated tasks, the awardee shall provide System Administrator support and project coordination in conjunction with, and as guided by NIC to support the Learn Center learning management system at the National Institute of Corrections.

NIC requires 32 hours of administrative support per week for 26 weeks, beginning with the effective date of the award. Work shall be performed off-site at a workplace provided by the awardee, Monday through Friday during normal business hours, except for official Government Holidays. The awardee, in cooperation with NIC, will establish a fixed weekly working schedule for these services.

Specific Requirements: The awardee shall perform the following administrative support tasks:

Provide excellent knowledge, experience and skills with all administrative functions of the Learn.com Learn Center.

Routinely provide guidance and suggestions to NIC regarding functional improvements to the NIC Learning Center.

Act as a functional liaison between NIC and Learn.Com. Provide daily status updates verbally to the NIC project manager (PM) of all ongoing projects and provide written input for the weekly written status report and project schedule.

Work directly with NIC's project management on current and future projects and develop a timeline project schedule to accomplish said tasks. (Tasks and actions to be defined by NIC)

Analyze current learning management system functionality. Review the NIC learning management system for capabilities and data structures.

Assist other key NIC/Learn.com staff wherever possible to populate the NIC Learning Center with content, working with the Learn.Com GUI/System Design team. Data may be populated through data export/import, manual key entry, or bulk data upload facilities. Specifically, the content should focus first on NIC Instructor-Led Training (ILT) offerings.

Coordinate with Learn.com project manager and other key Learn.com staff, as necessary, to ensure the successful completion of all NIC projects.

Address and/or coordinate the timely resolution of all technical questions before, during, and after implementation.

In collaboration with NIC project manager, assist in the development of training curricula and materials for NIC system users.

Provide additional administrative support not previously articulated in this agreement to assure the effective function and success of the NIC Learning Center.

Application Requirements: The application package must include OMB Standard Form 424, Application for Federal Assistance and a cover letter that identifies the audit agency responsible for the applicant's financial accounts as well as the audit period or fiscal year that the applicant operates under (e.g., July 1 through June 30); and an outline of projected costs. The following additional forms must also be included: OMB Standard Form 424A, Budget information—Non-Construction Programs; OMB Standard Form 424B, Assurances—Non-Construction Programs (available on http://www.grants.gov) and DOJ/NIC Certification Regarding Lobbying; Debarment, Suspension and Other Responsibility Matters; and the Drug-Free Workplace Requirements (available at http://www.nicic.gov/Downloads/PDF/certif-frm.pdf.) The applications should be concisely written, typed double spaced and referenced to the project by the “NIC Application Number” and Title in this announcement.

Submit an original and five copies. The original should have the applicant's signature in blue ink.

Authority: Public Law 93-415.

Funds Available: NIC is seeking the applicant's best ideas regarding accomplishment of the scope of work and the related costs for achieving the goals of this solicitation. The final budget and award amount will be negotiated between NIC and the successful applicant. Funds may only be used for the activities that are linked to the desired outcome of the project. No funds are transferred to state or local governments.

Eligibility of Applicants: An eligible applicant is any agency, educational institution, organization, individual or team with the expertise in the described areas.

Review Considerations: Applications received under this announcement will be subjected to a 3 to 5 person NIC Peer Review Process.

Number of Awards: One.

NIC Application Number: 08A48. This number should appear as a reference line in the cover letter, in box 4a of Standard Form 424, and outside of the envelope in which the application is sent.

Catalog of Federal Domestic Assistance Number 16.601.

Executive Order 12372: This project is not subject to the provisions of Executive Order 12372.

Morris L. Thigpen,
Director, National Institute of Corrections.

[FR Doc. E8-9455 Filed 4-29-08; 8:45 am]

BILLING CODE 4410-36-P